DEPARTMENT OF AGRICULTURE

Forest Service

Sierra County, CA, Resource Advisory Committee

AGENCY: Forest Service, USDA.

ACTION: Notice of meeting.

SUMMARY: The Sierra County Resource Advisory Committee (RAC) will meet on July 26, 2006, in Sierraville, California. The purpose of the meeting is to discuss issues relating to implementing the Secure Rural Schools and Community Self-Determination Act of 2000 (Payments to States) and the expenditure of title II funds benefiting National Forest System lands on the Humboldt-Toiyabe, Plumas and Tahoe National Forests in Sierra County.

DATES: The meeting will be held on Wednesday, July 26, 2006 at 10 a.m.

ADDRESSES: The meeting will be held at the Sierraville Ranger Station, Sierraville, CA.

FOR FURTHER INFORMATION CONTACT: Ann Westling, Committee Coordinator, USDA, Tahoe National Forest, 631 Coyote St., Nevada City, CA 95959, (530) 478-6205, e-mail: awestling@fs.fed.us.

SUPPLEMENTARY INFORMATION: Agenda items to be covered include: (1) Welcome and announcements; (2) Status of previously approved projects; and (3) Review of and decisions on new projects proposals for current year. It is open to the public and the public will have an opportunity to comment at the meeting.

Dated: July 10, 2006.
Jean M. Masquelier,
Acting Forest Supervisor.

[FR Doc. 06-6263 Filed 7-17-06; 8:45 am]

BILLING CODE 3410-11-M